COMMODITY FUTURES TRADING COMMISSION

Agricultural Advisory Committee Meeting

AGENCY: Commodity Futures Trading Commission.

ACTION: Notice of meeting.

SUMMARY: The Commodity Futures Trading Commission (CFTC or Commission) announces that on December 9, 2014, from 10:00 a.m. to 3:00 p.m., the Agricultural Advisory Committee (AAC) will hold a public meeting at the CFTC's Washington, DC, headquarters. The meeting will focus on, among other issues, topics related to the agricultural economy, as well as the deliverable supplies of agricultural commodities as they pertain to position limits.

DATES: The meeting will be held on Tuesday, December 9, 2014 from 10:00 a.m. to 3:00 p.m. Members of the public who wish to submit written statements in connection with the meeting should submit them by December 1, 2014.

ADDRESSES: The meeting will take place in the first floor Conference Center at the Commission's headquarters, Three Lafayette Centre, 1155 21st Street NW., Washington, DC 20581. Written statements should be submitted to: Agricultural Advisory Committee, c/o Cory Claussen, Commodity Futures Trading Commission, Three Lafayette Centre, 1155 21st Street NW., Washington, DC 20581. Statements may also be submitted by electronic mail to: aac@cftc.gov. Any statements submitted in connection with the committee meeting may be made available to the public, including publication on the CFTC Web site, www.cftc.gov.

FOR FURTHER INFORMATION CONTACT: Cory Claussen, AAC Designated Federal Officer, Commodity Futures Trading Commission, Three Lafayette Centre, 1155 21st Street NW., Washington, DC 20581; (202) 418-5383.

SUPPLEMENTARY INFORMATION: The meeting is open to the public with seating on a first-come, first-served basis. The meeting will be recorded and posted on the CFTC Web site, www.cftc.gov. Members of the public may watch a live Webcast on the Commission's Web site. Members of the public may also listen to the meeting by telephone by calling a domestic toll-free or international toll or toll-free number to connect to a live, listen-only audio feed. These numbers, along with the conference and/or access codes will be posted on the CFTC Web site prior to the AAC meeting. Call-in participants should be prepared to provide their first name, last name, and affiliation. After the meeting, a transcript of the meeting will be published on the CFTC Web site, www.cftc.gov. Persons requiring special accommodations to attend the meeting because of a disability should notify the contact person above.

Authority: 5 U.S.C. Appendix 2 § 10(a)(2).

Dated: November 19, 2014.
Christopher J. Kirkpatrick,
Secretary of the Commission.

[FR Doc. 2014-27754 Filed 11-21-14; 8:45 am]

BILLING CODE 6351-01-P